ENVIRONMENTAL PROTECTION AGENCY

40 CFR Part 33

[EPA-HQ-OA-2016-0457; FRL-9954-30-OA]

RIN 2090-AA40

Participation by Disadvantaged Business Enterprises in Procurements Under EPA Financial Assistance Agreements

AGENCY: Environmental Protection Agency (EPA).

ACTION: Withdrawal of direct final rule.

SUMMARY: Because EPA received comments which could be construed as adverse, we are withdrawing the direct final rule to amend Part 33—Participation by Disadvantaged Business Enterprises in Procurements under EPA Financial Assistance Agreements published on July 28, 2016.

DATES: Effective October 18, 2016 the rule published in the Federal Register of July 28, 2016 (81 FR 49539) (FRL-9946-27-OA) is withdrawn.

FOR FURTHER INFORMATION CONTACT: Teree Henderson, Office of the Administrator, Office of Small Business Programs (mail code: 1230A), Environmental Protection Agency, 1200 Pennsylvania Ave. NW., Washington, DC 20460; telephone number: 202-566-2222; fax number: 202-566-0548; email address: henderson.teree@epa.gov.

SUPPLEMENTARY INFORMATION: On July 28, 2016, we published a direct final rule (81 FR 49539) and a parallel proposal (81 FR 49591) amending the provisions for Part 33—Participation by Disadvantaged Business Enterprises in Procurements under EPA Financial Assistance Agreements. These amendments were issued as a direct final rule, along with a parallel proposal to be used as the basis for final action in the event EPA received any adverse comments on the direct final amendments. Because EPA received comments which could be construed as adverse, we are withdrawing the direct final rule to amend the general provisions for part 33 published on July 28, 2016.

We stated in the direct final rule that if we received adverse comment by August 29, 2016, the direct final rule would not take effect and we would publish a timely withdrawal in the Federal Register. We subsequently received comments that could be construed as adverse on that direct final rule. We will address those comments in a subsequent final action based on the parallel proposal published on July 28, 2016 (81 FR 49591). As stated in the direct final rule and the parallel proposed rule, we will not institute a second comment period on this action.

List of Subjects in 40 CFR Part 33

Environmental protection, Grant programs.

Dated: October 12, 2016.
Gina McCarthy,
Administrator.

[FR Doc. 2016-25169 Filed 10-17-16; 8:45 am]

BILLING CODE 6560-50-P